ENVIRONMENTAL PROTECTION AGENCY

[EPA-HQ-OECA-2013-0314; FRL-10004-76-OMS]

Information Collection Request Submitted to OMB for Review and Approval; Comment Request; NSPS for Phosphate Rock Plants (Renewal)

AGENCY: Environmental Protection Agency (EPA).

ACTION: Notice.

SUMMARY: The Environmental Protection Agency (EPA) has submitted an information collection request (ICR), NSPS for Phosphate Rock Plants (EPA ICR Number 1078.12, OMB Control Number 2060-0111), to the Office of Management and Budget (OMB) for review and approval in accordance with the Paperwork Reduction Act. This is a proposed extension of the ICR, which is currently approved through March 31, 2020. Public comments were previously requested via the Federal Register on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 2, 2020.

ADDRESSES: Submit your comments, referencing Docket ID Number EPA-HQ-OECA-2013-0314, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person, at the EPA Docket Center, WJC West, Room 3334, 1301 Constitution Ave. NW, Washington, DC. The telephone number for the Docket Center is 202-566-1744. For additional information about EPA's public docket, visit: http://www.epa.gov/dockets.

Abstract: The New Source Performance Standards (NSPS) for Phosphate Rock Plants (40 CFR part 60, subpart NN) apply to the following existing facilities and new facilities at phosphate rock plants with capacities greater than 4 tons per hour: Dryers, calciners, grinders, and ground rock handling and storage facilities, except those facilities producing or preparing phosphate rock solely for consumption in elemental phosphorus production. New facilities include those that commenced construction, modification or reconstruction after the date of proposal. This information is being collected to assure compliance with 40 CFR part 60, subpart NN. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of phosphate rock plants.

Respondent's obligation to respond: Mandatory (40 CFR part 60, subpart NN).

Estimated number of respondents: 15 (total).

Frequency of response: Initially and semiannually.

Total estimated burden: 1,800 hours (per year). Burden is defined at 5 CFR 1320.3(b).

Total estimated cost: $335,000 (per year), which includes $126,000 in annualized capital/startup and/or operation & maintenance costs.

Changes in the Estimates: There is an adjustment decrease in the total estimated burden in this ICR as currently identified in the OMB Inventory of Approved Burdens. This increase is not due to any program changes. The adjustment decrease in burden from the most-recently approved ICR is due to a decrease in the number of sources. The growth rate for the industry is very low, negative or non-existent, so the ICR has been adjusted to account for no new respondents over the next three years. This also results in a reduction in capital/startup costs.

Courtney Kerwin,
Director, Regulatory Support Division.

[FR Doc. 2020-01662 Filed 1-29-20; 8:45 am]

BILLING CODE 6560-50-P